DEPARTMENT OF TRANSPORTATION

Federal Railroad Administration

[Docket No. FRA-2023-0002-N-12]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On April 21, 2023, FRA published a notice providing a 60-day period for public comment on the ICR.

DATES: Interested persons are invited to submit comments on or before August 4, 2023.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On April 21, 2023, FRA published a 60-day notice in the Federal Register soliciting public comment on the ICR for which it is now seeking OMB approval. See 88 FR 24657.

FRA has received one comment related to the proposed collection of information. The Chief Economist of the Bureau of Economic Analysis (BEA) sent an electronic letter date May 30, 2023, expressing BEA's strong support for FRA's continued collection of on the Accident/Incident Reporting and Recordkeeping forms. The Chief Economist noted that the data collected on these forms are crucial to key components of BEA's economic analyses and requested that FRA keep BEA informed of any modifications to these forms. Before OMB decides whether to approve this proposed collection of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. This ICR responds to the information collection mandate in Section 22421(b) of the Infrastructure Investment and Jobs Act (IIJA) and also provides routine updates to 49 CFR part 225's overall information collection request renewal.

OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Accident/Incident Reporting and Recordkeeping.

OMB Control Number: 2130-0500.

Abstract: The railroad accident/incident reporting regulations in 49 CFR part 225 require railroads to submit reports summarizing collisions, derailments, and certain other accidents/incidents involving damages above a periodically revised dollar threshold, as well as certain injuries to passengers, employees, and other persons on railroad property. As the reporting requirements and the information needed regarding each category of accident/incident are unique, a different form is used for each category.

In response to the mandate in IIJA Section 22421,¹ FRA intends to utilize Form FRA F 6180.54 Special Study Blocks 49a and 49b to collect the following information for a projected five-year period: (1) the length of the involved trains, in feet, and (2) the number of crew members who were aboard a controlling locomotive involved in an accident at the time of such accident. This modification produces a minimal additional burden with respect to what is already being reported, as FRA estimates that the utilization of the Special Study Blocks will require an additional 2 minutes to complete, for a total average burden time of approximately 2 hours and 2 minutes per form, adding an additional 57 hours to the overall collection request.

¹ Specifically, IIJA Section 22421(b) requires FRA to update Special Study Block 49 on Form FRA F 6180.54, for a period of five years, to collect information on: (1) the number of cars and length of trains involved in an accident/incident; and (2) the number of crew members who were aboard a controlling locomotive involved in an accident at the time of such accident. Railroads are already required to report the number of cars in the consist of a train involved in an accident on Form FRA F 6180.54, Field 35.

FRA has made multiple adjustments to its estimated paperwork burden for the entire part 225 collection request, resulting in a reduction of 5,563 hours, from 35,846 hours in the current inventory, to 30,283 hours in the requested inventory. The primary reason for the reduction in the estimated paperwork burden is the expected decrease in the number of submissions. Specifically, under § 225.19(d), FRA expects submissions will decrease significantly from 11,636 hours to 7,040 hours due to a reduction in the number of injuries reported in the last two years. There is no change in the method of collection; this is a routine update for this 3-year ICR renewal period.

Type of Request: Revision of a currently approved collection.

Affected Public: Businesses

Form(s): FRA F 6180.54; .55; .55a; .56; .57; .78; .81; .97; .98; .107; .150.

Respondent Universe: 784 railroads.

Frequency of Submission: On occasion.

Reporting Burden:

CFR Section | Respondent universe | Total annual responses | Average time per response | Total annual burden hours | Total cost equivalent in U.S. dollar
|  | (A) | (B) | (C = A * B) | (D = C * wage rates) ²
225.6(a)—Consolidated reporting—Request to FRA by parent corporation to treat its commonly controlled carriers as a single railroad carrier for purposes of this part | 784 railroads | 0.33 requests | 40.00 hours | 13.20 | $1,028.41
—(b) Written agreement by parent corporation with FRA on specific subsidiaries included in its railroad system | The burden for this requirement is included in § 225.6(a).
—(c) Notification by parent corporation regarding any change in the subsidiaries making up its railroad system and amended written agreement with FRA | The burden for this requirement is included in § 225.6(a).
225.9—Telephonic reports of certain accidents/incidents and other events | 784 railroads | 2,589.00 phone reports | 15.00 minutes | 647.25 | 50,427.25
225.11—Reporting of accidents/incidents—Form FRA F 6180.54 (IIJA created an additional burden of 2 minutes to what is already being reported.) | 784 railroads | 1,699.00 forms | 2 hours + 2 minutes | 3,454.63 | 269,150.22
225.12(a)—Rail equipment accident/incident reports alleging human factor as cause—Form FRA F 6180.81 | 784 railroads | 732.00 forms | 15.00 minutes | 183.00 | 14,257.53
—(b) Part I Form FRA F 6180.78 (Notices) | 784 railroads | 800 notices + 800 notice copies + 3,200 copies + 10 copies | 10 minutes + 3 minutes | 333.83 | 26,008.70
—(c) Joint operations | 784 railroads | 73.00 reports | 20.00 minutes | 24.00 | 1,869.84
—(d) Late identification | 784 railroads | 20 attachments + 20 notices | 10.00 minutes | 6.67 | 519.66
—(g) Employee statement supplementing railroad accident report (Part II Form FRA 6180.78) | Railroad employees | 60.00 statements | 1.50 hours | 90.00 | $7,011.90
—(g)(3) Employee confidential letter | Railroad employees | 5.00 letters | 2.00 hours | 10.00 | 779.10
225.13(A)—Late reports—RR discovery of improperly omitted report of accident/incident | 784 railroads | 50.00 late reports | 2.00 hours | 100.00 | 7,791.00
—(B) RR late/amended report of accident/incident based on employee statement supplementing RR accident report | 784 railroads | 20 amended reports + 30 copies | 1 hour + 3 minutes | 21.50 | 1,675.07
225.18(a)—RR narrative report of possible alcohol/drug involvement in accident/incident | 784 railroads | 12.00 reports | 15.00 minutes | 3.00 | 233.73
—(b) Reports required by § 219.209(b) appended to rail equipment accident/incident report | 784 railroads | 5.00 reports | 30.00 minutes | 2.50 | 194.78
225.19(a)—Rail-highway grade crossing accident/incident report—Form FRA F 6180.57 | 784 railroads | 2,161.50 forms | 2.00 hours | 4,323.00 | 336,804.93
—(d) Death, injury, or occupational illness (Form FRA F 6180.55a) | 784 railroads | 7,040.00 forms | 1.00 hour | 7,040.00 | 548,486.40
225.21—Railroad injury and illness summary—Form FRA F 6180.55 | 784 railroads | 9,408.00 forms | 10.00 minutes | 1,568.00 | 122,162.88
225.21—Annual railroad report of employee hours and casualties, by state—Form FRA F 6180.56 | 784 railroads | 784.00 forms | 15.00 minutes | 196.00 | 15,270.36
225.21/25—Railroad employee injury and/or illness record—Form FRA F 6180.98 | 784 railroads | 4,000.00 forms | 1.00 hour | 4,000.00 | 311,640.00
—Copies of forms to employees | 784 railroads | 3.60 form copies | 2.00 minutes | 0.12 | 9.35
225.21—Initial rail equipment accident/incident record—Form FRA F 6180.97 | 784 railroads | 10,194.00 forms | 30.00 minutes | 5,097.00 | 397,107.27
—Completion of Form FRA F 6180.97 because of rail equipment involvement | FRA anticipates zero railroad submissions during this 3-year ICR period.
—Alternative record for illnesses claimed to be work related—Form FRA F 6180.107 | 784 railroads | 150.00 forms | 75.00 minutes | 187.50 | 14,608.13
—Highway User Statement—RR cover letter and Form FRA F 6180.150 sent out to potentially injured travelers involved in a highway-rail grade crossing accident/incident | 784 railroads | 721.00 letters/forms | 50.00 minutes | 600.83 | 46,810.67
—Form FRA F 6180.150 completed by highway user and sent back to railroad | 117 injured individuals | 117.00 forms | 45.00 minutes | 87.75 | 6,836.60
225.25(h)—Posting of monthly summary | 784 railroads | 9,408.00 lists | 5.00 minutes | 784.00 | 61,081.44
225.27(a)(1)—Retention of records | 784 railroads | 7,500.00 records | 2.00 minutes | 250.00 | 19,477.50
—Record of Form FRA F 6180.107s | The estimated paperwork burden for this requirement is included in 225.21 (Alternative record for illnesses claimed to be work related).
—Record of Monthly Lists | 784 railroads | 9,408.00 records | 2.00 minutes | 313.60 | 24,432.58
(a)(2)—Record of Form FRA F 6180.97 | 784 railroads | 10,194.00 records | 2.00 minutes | 339.80 | 26,473.82
—Record of employee human factor attachments | 784 railroads | 1,464.00 records | 2.00 minutes | 48.80 | 3,802.01
225.33—Internal Control Plans—Amendments | 784 railroads | 10.00 amendments | 6.00 hours | 60.00 | 4,674.60
225.35—Access to records and reports | 784 railroads | 784.00 lists | 20.00 minutes | 261.33 | 20,360.22
225.37(a)—Optical media transfer of reports, updates, and amendments | FRA anticipates zero submissions during this 3-year ICR period
(c)(2)—Electronic submission of reports, updates, and amendments | 784 railroads | 4,704.00 submissions | 3.00 minutes | 235.20 | 18,324.43
Totals ³ | 784 railroads | 85,570 responses | N/A | 30,283 | 2,359,310

Total Estimated Annual Responses: 85,570.

² The dollar equivalent cost is derived from the 2021 Surface Transportation Board Full Year Wage A&B data series using the appropriate employee group hourly wage rage that includes a 75 percent overhead charge.

³ Totals may not add due to rounding.

Total Estimated Annual Burden: 30,283 hours.

Total Estimated Annual Burden Hour Dollar Cost Equivalent: $2,359,310.

FRA informs all interested parties that it may not conduct or sponsor, and a respondent is not required to respond to, a collection of information that does not display a currently valid OMB control number.

Authority: 44 U.S.C. 3501-3520.

Brett A. Jortland,
Deputy Chief Counsel.

[FR Doc. 2023-14160 Filed 7-3-23; 8:45 am]

BILLING CODE 4910-06-P